FEDERAL COMMUNICATIONS COMMISSION

47 CFR Part 73

[MB Docket No. 17-187; RM-11792; DA 17-1062]

Television Broadcasting Services; Anchorage, Alaska

AGENCY: Federal Communications Commission.

ACTION: Final rule.

SUMMARY: The Commission grants the request by Gray Television License, LLC (Gray) to substitute channel 7 for channel 5 for station KYES-TV, Anchorage, Alaska. Gray filed comments reaffirming its interest in the proposed channel substitution and stating that if the proposal is granted, it will promptly file an application for the facilities specified in the rulemaking petition and construct the station. As Gray explained in its petition, the antenna currently used by KYES-TV is a repurposed analog antenna the previous station owner built which provides an inefficient signal. In addition, the current remote transmission site does not have a generator and KYES-TV goes silent when there is a power outage. By moving to sister station KTUU's location, and operating with an existing modern broadband antenna on a high-VHF channel, the station will be able to deliver an improved signal. Gray will also add the KYES-TV signal to the translator network used by KTUU, which will reduce most of the loss of service that would result from the proposed move, which will serve the public interest.

DATES: This rule is effective December 18, 2017.

FOR FURTHER INFORMATION CONTACT: Joyce Bernstein, Joyce.Bernstein@fcc.gov, Media Bureau, (202) 418-1647.

SUPPLEMENTARY INFORMATION: This is a synopsis of the Commission's Order, MB Docket No. 17-187, adopted October 31, 2017, and released October 31, 2017. The full text of this document is available for public inspection and copying during normal business hours in the FCC's Reference Information Center at Portals II, CY-A257, 445 12th Street SW., Washington, DC 20554. This document will also be available via ECFS (http://fjallfoss.fcc.gov/ecfs/). To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any information collection burden “for small business concerns with fewer than 25 employees,” pursuant to the Small Business Paperwork Relief Act of 2002, Public Law 107-198, see 44 U.S.C. 3506(c)(4). Provisions of the Regulatory Flexibility Act of 1980, see 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Barbara A. Kreisman,
Chief, Video Division, Media Bureau.

Final Rule

For the reasons discussed in the preamble, the Federal Communications Commission amends 47 CFR part 73 as follows:

PART 73—RADIO BROADCAST SERVICES

1. The authority citation for part 73 continues to read as follows:

Authority: 47 U.S.C. 154, 303, 309, 310, 334 336, and 339.

§ 73.622 [Amended]

2. Section 73.622(i), the Post-Transition Table of DTV Allotments under Alaska is amended by removing channel 5 and adding channel 7 at Anchorage.

[FR Doc. 2017-24944 Filed 11-16-17; 8:45 am]

BILLING CODE 6712-01-P